DEPARTMENT OF DEFENSE

Department of the Air Force

Notice of Intent To Prepare an Environmental Impact Statement for the Foreign Military Sales Pilot Training Center Beddown at Ebbing Air National Guard Base, Arkansas or Selfridge Air National Guard Base, Michigan

AGENCY: Department of the Air Force, Department of Defense.

ACTION: Notice of Intent.

SUMMARY: The Department of the Air Force (Air Force) is issuing this notice to advise the public of its intent to prepare an Environmental Impact Statement (EIS) for the Foreign Military Sales (FMS) Pilot Training Center (PTC) beddown at a single Continental United Sates (CONUS) location at either Ebbing Air National Guard (ANG) Base, Arkansas or Selfridge ANG Base, Michigan. The EIS will assess the potential environmental consequences resulting from construction or renovation of facilities and aircraft operation of the proposal for the permanent beddown of the FMS PTC, encompassing up to 16 F-16 aircraft and 36 F-35 aircraft.

DATES: A public scoping period of 30-days will take place starting from the date of this NOI publication in the Federal Register. Comments will be accepted at any time during the environmental impact analysis process; however, to ensure the Air Force has sufficient time to consider public scoping comments during the preparation of the Draft EIS, please submit comments within the 30-day period; by February 14, 2022, to the website or mailed to one of the addresses listed below.

The Air Force plans to hold two virtual scoping meetings to solicit comments on potential alternatives and impacts and identification of any relevant information, studies, or analyses of any kind concerning impacts affecting the quality of the human environment regarding the Proposed Action. The scoping meetings will be held on the dates and times below:

• Tuesday, February 1, 2022: 6 p.m.-8 p.m. CST

• Thursday, February 3, 2022: 6 p.m.-8 p.m. CST

To register to attend a virtual public scoping meeting and sign-up to provide a verbal comment, visit www.FMSPTCEIS.com. Meeting links and instructions will be distributed after registering and prior to all virtual public scoping meetings. All public scoping meetings can be accessed by phone at 1-877-853-5247; Meeting ID: 814 7750 7399; Meeting Password: 36126569.

Major milestone dates, are as follows:

• Draft EIS and Notice of Availability (NOA) publication, Fall 2022

• Draft EIS Public Comment Period and Hearing, Fall 2022

• Final EIS and NOA publication, Winter 2022/2023

• Record of Decision signature, Spring 2023

ADDRESSES: Additional information on the FMS PTC EIS environmental impact analysis process can be found on the project website at www.FMSPTCEIS.com. The project website can also be used to submit inquiries, comments, and requests for printed or digital copies of the scoping material or to Mr. David Martin at (210) 925-2741 or directed to: U.S. Post Office Deliveries: FMS PTC EIS Project Manager, AFCEC/CZN, 2261 Hughes Avenue, Suite 155, JBSA Lackland, TX 78236 9853. FedEx & UPS Deliveries: FMS PTC EIS Project Manager, AFCEC/CZN, 3515 S General McMullen, Suite 155, San Antonio, TX 78226-2018.

SUPPLEMENTARY INFORMATION: The Department of the Air Force proposes to beddown the FMS PTC, comprised of up to 16 F-16 aircraft of the Republic of Singapore Air Force (RSAF), and up to 36 F-35 FMS aircraft. The FMS PTC mission will operate under the direction of the Air Force Air Education and Training Command (AETC).

The purpose of the Proposed Action is to establish a permanent FMS PTC, initially providing beddown of up to 36 F-35 aircraft, at a single location within CONUS. The Proposed Action is needed to provide a centralized location for training and pilot production associated with Foreign Military Sales. Multiple nations have agreements with the Air Force to purchase F-35 aircraft. This drives the need for a location suitable for initial F-35 training before returning to their home country. The Republic of Singapore is among the nations purchasing F-35s and plans to keep some of their aircraft in the U.S. for an indefinite period of time. Additionally, the Republic of Singapore would relocate 16 F-16s from Luke AFB, Arizona, to the FMS PTC location.

The EIS will analyze Ebbing and Selfridge ANG Bases as alternatives for the implementing the Proposed Action described above, as well as a No Action Alternative. The alternatives were developed to minimize adverse mission impact, maximize facility reuse, minimize cost, and reduce overhead, as well as leverage the strengths of each base to optimize the FMS PTC strategy. The potential impacts of the Proposed Action and Alternatives (including No Action Alternative) that the EIS will examine include impacts to land use, airspace, safety, noise, hazardous materials and solid waste, physical resources (including earth and water resources), air quality, transportation, cultural resources, biological resources, socioeconomics, and environmental justice resulting from construction and renovation at the installation and aircraft operation. The Air Force is preparing this EIS in accordance with the National Environmental Policy Act (NEPA) of 1969; 40 Code of Federal Regulations (CFR), Parts 1500-1508, the Council on Environmental Quality (CEQ) regulations implementing NEPA; and the Air Force's Environmental Impact Analysis Process (EIAP) as codified in 32 CFR part 989.

Scoping and Agency Coordination: The scoping process will be used to involve the public early in the planning and development of the EIS, to help identify issues to be addressed in the environmental analysis. To effectively define the full range of issues and concerns to be evaluated in the EIS, the Air Force is soliciting scoping comments from interested local, state, and federal agencies and interested members of the public. The Federal Aviation Administration has been requested to be a Cooperating Agency for this action.

Due to the evolving nature of the current COVID crisis, the Air Force will hold two virtual public scoping meetings to inform the public and solicit comments and concerns about the proposal. Scoping meetings will be held online via www.FMSPTCEIS.com. Local notices identifying scheduled dates, and information for accessing each meeting, will be published a minimum of fifteen (15) days prior to each meeting.

Adriane S. Paris,
Air Force Federal Register Liaison Officer.

[FR Doc. 2022-00695 Filed 1-13-22; 8:45 am]

BILLING CODE 5001-10-P